DEPARTMENT OF HEALTH AND HUMAN SERVICES

Centers for Disease Control and Prevention

[30Day-20-1204]

Agency Forms Undergoing Paperwork Reduction Act Review

In accordance with the Paperwork Reduction Act of 1995, the Centers for Disease Control and Prevention (CDC) has submitted the information collection request titled “Behavioral Risk Factor Surveillance System (BRFSS) Asthma Call-back Survey (ACBS)” to the Office of Management and Budget (OMB) for review and approval. CDC previously published a “Proposed Data Collection Submitted for Public Comment and Recommendations” notice on 06/02/2020 to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Behavioral Risk Factor Surveillance System (BRFSS) Asthma Call-back Survey (ACBS) (OMB Control No. 0920-1204, Exp. 11/30/2020)—Revision—National Center for Environmental Health (NCEH), Centers for Disease Control and Prevention (CDC).

Background and Brief Description

The CDC's National Center for Environmental Health (NCEH) is requesting a three-year Paperwork Reduction Act (PRA) clearance to revise and continue to collect information under the “Behavioral Risk Factor Surveillance System (BRFSS) Asthma Call-back Survey (ACBS)” (OMB Control No. 0920-1204, Expiration Date 11/30/2020).

The ACBS is funded by the NCEH National Asthma Control Program (NACP) in the Asthma and Community Health Branch (ACHB). The ACBS is a follow-up survey on asthma and is administered on behalf of NCEH by the CDC's National Center for Chronic Disease Prevention and Health Promotion (NCCDPHP) BRFSS Program. The BRFSS (OMB Control No. 0920-1061, Expiration date 3/31/2021) is a nationwide system of customized, cross-sectional telephone health surveys. The BRFSS information collection is conducted in a continuous, three-part telephone interview process: Screening, participation in a common BRFSS core survey, and participation in optional question modules that states use to customize survey content. BRFSS coordinators in the health departments in U.S. states, territories, and the District of Columbia (collectively referred to as “states” and “jurisdictions”) are responsible for both the BRFSS and the ACBS administration.

The purpose of ACBS is to gather state-level asthma data and to make them available to track the burden of the disease, to monitor adherence to asthma guidelines, and to direct and evaluate interventions undertaken by asthma control programs located in state health departments. Beyond asthma prevalence estimates, for most states, the ACBS provides the only sources of adult and child asthma data on the state and local level.

Data collection for ACBS involves screening, obtaining permission, consenting, and telephone interviewing on a subset of the BRFSS respondents from participating states. The ACBS eligible respondents are BRFSS adults, 18 years and older, who report ever being diagnosed with asthma. In addition, some states include children, below 18 years of age, who are randomly selected subjects in the BRFSS household. Parents or guardians serve as ACBS proxy respondents for their children ever diagnosed with asthma. If both the BRFSS adult respondent and the selected child in the household have asthma, then only one or the other is eligible for the ACBS.

State BRFSS Coordinators submit de-identified data files to CDC on a monthly or quarterly basis for cleaning and weighting. The CDC BRFSS ACBS operation team returns clean, weighted data files to the state of origin for its use. The ACBS adds considerable state-level depth to the existing body of asthma data. It addresses critical questions surrounding the health and experiences of persons with asthma. Health data include symptoms, environmental factors, and medication use among persons with asthma. Data on their experiences include activity limitation, health system use, and self-management education. These asthma data are needed to direct and evaluate interventions undertaken by asthma control programs located in state health departments. Federal agencies and other entities also rely on this critical information for planning and evaluating efforts, and to reduce the burden from this disease. The CDC makes annual ACBS datasets available for public use and provides guidance on statistically appropriate uses of the data.

The NACP provides its 40 participating states with technical and methodological assistance. Based on feedback from ACBS working groups, the NACP proposes to revise the ACBS protocol to improve response. The protocol revisions include three significant changes. First, the ACBS interview will be done within two days of the BRFSS interview based on a NACP project that evaluated the impact of the original two-week lag on reduced ACBS response rates. Secondly, in households where both the randomly selected child and adult responding to the BRFSS have a diagnosis of asthma, the NACP requests to increase the child proportion from 50% up to 75%—100% to maximize the child sample size. Thirdly, the NACP requests to drop the option of identifying the Most Knowledge Person for child respondents in the ACBS, and to move it to the BRFSS state-added questions section.

Also, in response to the 2017 Terms of Clearance, the NACP undertook efforts to streamline the 2021 ACBS questionnaire, reduce unnecessary burden, and ensure that the question wording is synchronized with more recent studies. The questionnaires were re-evaluated by ACBS questionnaire working groups and the ACBS recipients.

The time burden estimates are based on the 2016 ACBS data collection, which is the most recent data released. The burden table reflects the landline and cell phone data collection methods used in 2016 and later years. Additionally, the time burden accounts for reporting burden incurred by the states for the monthly or quarterly adult and child ACBS data submissions to CDC. The total estimated annualized time burden for all respondents is 6,615 hours. Participation in the ACBS is voluntary and there are no costs to respondents other than their time.

Estimated Annualized Burden Hours
Type of respondents | Form name | Number of respondents | Number of responses per respondent | Average burden per response (in hours)
BRFSS Adults | ACBS Landline Screener—Adult | 17,800 | 1 | 1/60
| ACBS Cell Phone Screener—Adult | 16,733 | 1 | 1/60
BRFSS Parents or Guardians of Children | ACBS Landline Screener—Child | 2,576 | 1 | 1/60
| ACBS Cell Phone Screener—Child | 3,824 | 1 | 1/60
ACBS Adults | ACBS Adult Consent and Questionnaire | 23,166 | 1 | 10/60
ACBS Parents or Guardians of Children | ACBS Child Consent and Questionnaire | 3,787 | 1 | 10/60
State BRFSS Coordinators | ACBS Adult Data Submission Layout | 40 | 12 | 155/60
| ACBS Child Data Submission Layout | 40 | 12 | 25/60

Jeffrey M. Zirger,
Lead, Information Collection Review Office, Office of Scientific Integrity, Office of Science, Centers for Disease Control and Prevention.

[FR Doc. 2020-18278 Filed 8-19-20; 8:45 am]

BILLING CODE 4163-18-P